DEPARTMENT OF THE INTERIOR

Fish and Wildlife Service

[FWS-R1-ES-2012-N199; FXES11130100000C2-123-FF01E00000]

Endangered and Threatened Wildlife and Plants; Recovery Plan for the Columbia Basin Distinct Population Segment of the Pygmy Rabbit (Brachylagus idahoensis)

AGENCY: Fish and Wildlife Service, Interior.

ACTION: Notice of document availability.

SUMMARY: We, the U.S. Fish and Wildlife Service, announce the availability of the approved Recovery Plan for the Columbia Basin Distinct Population Segment of the Pygmy Rabbit (Brachylagus idahoensis). The recovery plan includes recovery objectives and criteria and prescribes specific recovery actions considered necessary to achieve downlisting of the population from endangered to threatened status on the Federal List of Endangered and Threatened Wildlife and Plants.

ADDRESSES: An electronic copy of the recovery plan is available at http://www.fws.gov/endangered/species/recovery-plans.html and http://www.fws.gov/pacific/ecoservices/endangered/recovery/plans.html. Copies of the recovery plan are also available by request from the U.S. Fish and Wildlife Service, Eastern Washington Field Office, 11103 East Montgomery Drive, Spokane, Washington 99206 (phone: 509-891-6839). Printed copies of the recovery plan will be available for distribution within 4 to 6 weeks of publication of this notice.

FOR FURTHER INFORMATION CONTACT: Chris Warren, Fish and Wildlife Biologist, at the above Spokane address and telephone number.

SUPPLEMENTARY INFORMATION: We announce the availability of the approved Recovery Plan for the Columbia Basin Distinct Population Segment of the Pygmy Rabbit (Columbia Basin pygmy rabbit).

Background

Recovery of endangered or threatened animals and plants is the primary goal of the Endangered Species Act (Act) of 1973, as amended (16 U.S.C. 1531 et seq.). Recovery means improvement of the status of a listed species to the point at which listing it is no longer required under the criteria set forth in section 4(a)(1) of the Act and its implementing regulations at 50 CFR 424. The Act requires the development of recovery plans for endangered or threatened species unless such a plan would not promote the conservation of the species. Recovery plans help guide the recovery effort by prescribing actions considered necessary for the conservation of the species, establishing criteria for downlisting or delisting listed species, and estimating time and cost for implementing the measures needed for recovery.

In 2007 we developed a draft recovery plan (Draft) for the Columbia Basin pygmy rabbit in coordination with the Columbia Basin Pygmy Rabbit Recovery Team, which included representatives from two U.S. Department of the Interior bureaus (Fish and Wildlife Service and Bureau of Land Management), one U.S. Department of Agriculture bureau (Natural Resources Conservation Service), two State agencies (Washington Department of Fish and Wildlife and Washington Department of Natural Resources), Washington State University, The Nature Conservancy, Oregon Zoo, Foster Creek Conservation District, and several adjunct expert contributors. In order to address available new information, ongoing implementation of adaptive management measures, and prescribed changes to specific actions defined in the Draft, we developed an amendment to the draft recovery plan (Amendment) for the Columbia Basin pygmy rabbit in 2011. Several of the above recovery team members also contributed to development of the Amendment and the final approved recovery plan.

Section 4(f) of the Act requires public notice and an opportunity for public review and comment during recovery plan development. From September 7 through November 6, 2007, we provided the Draft to the public and solicited comments (72 FR 51461). From June 29 through August 29, 2011, we provided the Amendment to the public and solicited comments (76 FR 38203). We considered all information we received during the public comment periods, along with comments solicited from expert peer reviewers, and have summarized that information and our responses to comments in an appendix to the final recovery plan. We welcome continuing comment on the recovery plan, and we will consider all substantive comments on an ongoing basis to inform the implementation of recovery activities and future updates to the recovery plan.

Large-scale loss and fragmentation of native shrub steppe habitats, primarily for agricultural development, likely played a primary role in the long-term decline of the Columbia Basin pygmy rabbit. By 2001, the Columbia Basin pygmy rabbit was imminently threatened by its small population size, loss of genetic diversity, and inbreeding depression, coupled with a lack of suitable protected habitats in the wild. To varying degrees, these influences continue to impact the Columbia Basin pygmy rabbit.

The Washington Department of Fish and Wildlife began a captive breeding program for the Columbia Basin pygmy rabbit in 2001 and an intercross breeding strategy in 2003. Due to severe inbreeding depression in the purebred captive animals, intercross breeding was conducted to facilitate genetic restoration of the Columbia Basin pygmy rabbit, and is considered essential for recovery efforts. Intercross breeding was accomplished through carefully controlled matings between the founding purebred Columbia Basin animals and pygmy rabbits of the same taxonomic classification from a discrete population in Idaho. The last known wild subpopulation of pygmy rabbits within the Columbia Basin was extirpated by early 2004, although other wild subpopulations may still exist on lands that have not yet been surveyed.

In March of 2007, 20 captive-bred, intercrossed pygmy rabbits were reintroduced to habitats historically occupied by the species in the Columbia Basin of central Washington. Through monitoring it was determined that these captive-bred animals experienced very high mortality over the first several weeks following their release, and none are believed to have survived. Following the development and implementation of appropriate adaptive management measures, reintroduction efforts were resumed in the summer of 2011. The new measures that have been implemented include additional releases of the captive-bred intercrossed pygmy rabbits, the capture and translocation of wild pygmy rabbits from populations outside of the Columbia Basin for inclusion in the reintroduction program, initiation of partially controlled field-breeding efforts, and improved protective measures during releases. As these new measures have been implemented, the need for continuing captive breeding efforts has steadily diminished, and captive breeding operations at the three cooperating facilities were discontinued by the end of July 2012.

The recovery plan prescribes a phased approach for recovery: (1) Removal or abatement of imminent threats to the population and potentially suitable shrub-steppe habitats in the Columbia Basin; (2) reestablishment of an appropriate number and distribution of free-ranging subpopulations over the near term; and (3) establishment and protection of a sufficiently resilient, free-ranging population that would be expected to withstand foreseeable long-term threats. This recovery strategy is oriented to dynamic adaptive management of the Columbia Basin pygmy rabbit and its habitat, consistent with the Service's Strategic Habitat Conservation process, which calls for an iterative process of biological planning, conservation design, conservation delivery, and monitoring and research. The biological planning and conservation design set forth in this recovery plan lay out the criteria for recovery and identify localities for implementing actions, while the recovery actions describe a process for implementing conservation on the ground, outcome-based monitoring to assess success, and ongoing assumption-driven research to test biological hypotheses important to management. To facilitate this strategy, specific near-term (i.e., 2012 to 2021) and more general long-term objectives and criteria have been established. In addition, revised implementation schedules will be developed, as necessary, to reflect the knowledge gained, accomplishments met, potential future constraints encountered, and consequent refinements to near-term recovery objectives, criteria, and/or actions as recovery progresses.

Authority: The authority for this action is section 4(f) of the Endangered Species Act, 16 U.S.C. 1533(f).

Dated: December 11, 2012.
Richard R. Hannan,
Acting Regional Director, Pacific Region, U.S. Fish and Wildlife Service.

[FR Doc. 2013-01293 Filed 1-22-13; 8:45 am]

BILLING CODE 4310-55-P